DEPARTMENT OF ENERGY

Federal Energy Regulatory Commission

[Docket No. RP00-404-007]

Northern Natural Gas Company; Notice of Compliance Filing

December 31, 2002.

Take notice that on December 23, 2002, Northern Natural Gas Company (Northern), tendered for filing as part of its FERC Gas Tariff, Fifth Revised Volume No. 1 the following tariff sheets in compliance with the Commission's order issued on November 21, 2002, in Docket No. RP00-404, et al. (Order):

Seventh Revised Sheet No. 1

Ninth Revised Sheet No. 2

61 Revised Sheet No. 53

Fourth Revised Sheet No. 55

Third Revised Sheet No. 111

Fifth Revised Sheet No. 115

Third Revised Sheet No. 125

Third Revised Sheet No. 133

Fifth Revised Sheet No. 142

Original Sheet No. 142A

Original Sheet No. 142B

Original Sheet No. 142C

Original Sheet No. 142D

Original Sheet No. 142E

Fifth Revised Sheet No. 146

Fourth Revised Sheet No. 154

Tenth Revised Sheet No. 201

Eighth Revised Sheet No. 220

Sixth Revised Sheet No. 226

Sixth Revised Sheet No. 252

Third Revised Sheet No. 256

Seventh Revised Sheet No. 258

Seventh Revised Sheet No. 259

Second Revised Sheet No. 260A

Fourth Revised Sheet No. 263C

Fourth Revised Sheet No. 263D

Fourth Revised Sheet No. 266

Fourth Revised Sheet No. 269

Second Revised Sheet No. 270

Second Revised Sheet No. 292A

Third Revised Sheet No. 304

Second Revised Sheet No. 305

Original Sheet No. 305A

Original Sheet No. 305B

Original Sheet No. 306

Sheet No. 307

Second Revised Sheet No. 432

Sheet No. 433

Second Revised Sheet No. 443

First Revised Sheet No. 444

Sheet No. 445

Northern states that this filing is Northern's compliance filing under Order No. 637.

Northern further states that copies of the filing have been mailed to each of its customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 6, 2003.

Linwood A. Watson, Jr.,
Deputy Secretary.

[FR Doc. 03-235 Filed 1-3-03; 8:45 am]

BILLING CODE 6717-01-P